DEPARTMENT OF TRANSPORTATION

Federal Aviation Administration

14 CFR Part 97

[Docket No. 30506 Amdt. No. 3178]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective August 7, 2006. The compliance date for each SIAP and/or Weather Takeoff Minimums is specified in the amendatory provisions.

The incorporation by reference of certain publications listed in the regulations is approved by the Director of the Federal Register as of August 7, 2006.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to Title 14 of the Code of Federal Regulations, part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on July 28, 2006.
James J. Ballough,
Director, Flight Standards Service.

Adoption of the Amendment

Accordingly, pursuant to the authority delegated to me, under Title 14, Code of Federal Regulations, part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 31 August 2006

Louisville, KY, Louisville Intl-Standiford Field, Takeoff Minimums and Textual DP, Amdt 4

Boston, MA, General Edward Lawrence Logan Intl, VOR/DME RNAV RWY 4R, Amdt 1A, CANCELLED

Binghamton, NY, Greater Binghamton/Edwin A. Link Field, NDB RWY 34, Amdt 18, CANCELLED

Tulsa, OK, Tulsa Intl, ILS OR LOC RWY 18L, Amdt 15

Berkeley Springs, WV, Potomac Airpark, VOR/DME RNAV-A, Amdt 2, CANCELLED

* * * Effective 28 September 2006

Little Rock, AR, Adams Field, ILS OR LOC RWY 4R, Amdt 2

Arcata/Eureka, CA, Arcata, RNAV (GPS) RWY 1, Orig

Arcata/Eureka, CA, Arcata, RNAV (GPS) RWY 14, Orig

Arcata/Eureka, CA, Arcata, GPS RWY 2, Orig-A, CANCELLED

Arcata/Eureka, CA, Arcata, GPS RWY 14, Orig, CANCELLED

Keokuk, IA, Keokuk Muni, RNAV (GPS) RWY 8, Orig

Keokuk, IA, Keokuk Muni, RNAV (GPS) RWY 14, Orig

Keokuk, IA, Keokuk Muni, RNAV (GPS) RWY 26, Orig

Keokuk, IA, Keokuk Muni, RNAV (GPS) RWY 32, Orig

Keokuk, IA, Keokuk Muni, NDB RWY 14, Amdt 12

Keokuk, IA, Keokuk Muni, NDB RWY 26, Amdt 1

Keokuk, IA, Keokuk Muni, Takeoff Minimums and Textual DP, Orig

Fort Wayne, IN, Fort Wayne International, NDB RWY 32, Amdt 26, CANCELLED

Paducah, KY, Barkley Regional, RNAV (GPS) RWY 4, Orig

Paducah, KY, Barkley Regional, RNAV (GPS) RWY 22, Orig

Paducah, KY, Barkley Regional, ILS OR LOC RWY 4, Amdt 9

Paducah, KY, Barkley Regional, VOR RWY 4, Amdt 18

Paducah, KY, Barkley Regional, NDB OR GPS RWY 22, Amdt 3, CANCELLED

Paducah, KY, Barkley Regional, Takeoff Minimums and Textual DP, Amdt 3

Prestonsburg, KY, Big Sandy Regional, RNAV (GPS) RWY 21, Amdt 1

Prestonsburg, KY, Big Sandy Regional, Takeoff Minimums and Textual DP, Amdt 1

New Iberia, LA, Acadiana Regional, RNAV (GPS) RWY 16, Orig

New Iberia, LA, Acadiana Regional, RNAV (GPS) RWY 34, Orig

New Iberia, LA, Acadiana Regional, VOR OR TACAN RWY 16, Amdt 1

New Iberia, LA, Acadiana Regional, Takeoff Minimums and Textual DP, Orig

Sikeston, MO, Sikeston Meml Muni, RNAV (GPS) RWY 2, Orig

Sikeston, MO, Sikeston Meml Muni, RNAV (GPS) RWY 20, Orig

Sikeston, MO, Sikeston Meml Muni, VOR/DME RWY 2, Amdt 2

Sikeston, MO, Sikeston Meml Muni, GPS RWY 20, Orig-B, CANCELLED

Sikeston, MO, Sikeston Meml Muni, Takeoff Minimums and Textual DP, Orig

Bismarck, ND, Bismarck Muni, NDB RWY 31, Amdt 31, CANCELLED

Plattsmouth, NE, Plattsmouth Muni, RNAV (GPS) RWY 16, Orig

Plattsmouth, NE, Plattsmouth Muni, RNAV (GPS) RWY 34, Orig

Plattsmouth, NE, Plattsmouth Muni, GPS RWY 16, Orig-A, CANCELLED

Plattsmouth, NE, Plattsmouth Muni, GPS RWY 34, Orig-B, CANCELLED

Plattsmouth, NE, Plattsmouth Muni, Takeoff Minimums and Textual DP, Orig

New York, NY, John F. Kennedy, Takeoff Minimums and Textual DP, Amdt 7

Bowling Green, OH, Wood County, VOR/DME RNAV RWY 28, Amdt 1A, CANCELLED

Chillicothe, OH, Ross County, NDB RWY 23, Amdt 7A, CANCELLED

Coshocton, OH, Richard Downing, VOR/DME RNAV RWY 22, Amdt 4, CANCELLED

Portland, OR, Portland-Hillsboro, RNAV (GPS) RWY 12, Orig

Anderson, SC, Anderson Regional, NDB OR GPS RWY 35, Amdt 1A, CANCELLED

Sumter, SC, Sumter Muni, RADAR-1, Amdt 7A, CANCELLED

Edinburg, TX, Edinburg Intl, RNAV (GPS) RWY 14, Orig

Edinburg, TX, Edinburg Intl, RNAV (GPS) RWY 32, Orig

Edinburg, TX, Edinburg Intl, Takeoff Minimums and Textual DP, Orig

Galveston, TX, Scholes Intl at Galveston, RNAV (GPS) RWY 17, Amdt 1

Galveston, TX, Scholes Intl at Galveston, RNAV (GPS) RWY 31, Orig

Galveston, TX, Scholes Intl at Galveston, RNAV (GPS) RWY 35, Orig

Mc Allen, TX, Mc Allen Miller Intl, RNAV (GPS) RWY 13, Orig

Mc Allen, TX, Mc Allen Miller Intl, RNAV (GPS) RWY 31, Orig

Mc Allen, TX, Mc Allen Miller Intl, GPS RWY 13, Orig-A, CANCELLED

Mc Allen, TX, Mc Allen Miller Intl, GPS RWY 31, Orig-A, CANCELLED

Mesquite, TX, Mesquite Metro, RNAV (GPS) RWY 17, Orig

Mesquite, TX, Mesquite Metro, RNAV (GPS) RWY 35, Orig

Plainview, TX, Hale County, RNAV (GPS) RWY 4, Orig

Plainview, TX, Hale County, RNAV (GPS) RWY 22, Orig

Plainview, TX, Hale County, GPS RWY 4, Orig-B, CANCELLED

Plainview, TX, Hale County, GPS RWY 22, Orig-A, CANCELLED

Temple, TX, Draughon-Miller Central Texas Regional, RNAV (GPS) RWY 2, Orig

Temple, TX, Draughon-Miller Central Texas Regional, RNAV (GPS) RWY 15, Amdt 1

Temple, TX, Draughon-Miller Central Texas Regional, RNAV (GPS) RWY 33, Amdt 1

Temple, TX, Draughon-Miller Central Texas Regional, Takeoff Minimums and Textual DP, Amdt 3

Charlottesville, VA, Charlottesville-Albemarle, RNAV (GPS) Y RWY 21, Amdt 1

Charlottesville, VA, Charlottesville-Albemarle, RNAV (GPS) Z RWY 21, Orig

Roanoke, VA, Roanoke Regional/Woodrum Field, LDA RWY 6, Amdt 9

Olympia, WA, Olympia, ILS OR LOC RWY 17, Amdt 10

Seattle, WA, Seattle-Tacoma Intl, RNAV (GPS) RWY 16C, Orig-D

Seattle, WA, Seattle-Tacoma Intl, RNAV (GPS) RWY 34C, Orig-C

Seattle, WA, Seattle-Tacoma Intl, ILS OR LOC RWY 34C, Orig-D

Seattle, WA, Seattle-Tacoma Intl, ILS OR LOC RWY 16C, Amdt 12F, ILS RWY 16C (CAT II) ILS RWY 16C (CAT III)

Seattle, WA, Seattle-Tacoma Intl, VOR RWY 16L/C, Amdt 13C

Seattle, WA, Seattle-Tacoma Intl, VOR RWY 34C/R, Amdt 9C

Mosinee, WI, Central Wisconsin, ILS OR LOC RWY 8, Amdt 12

Rice Lake, WI, Rice Lake Regional-Carl's Field, NDB RWY 1, Orig, CANCELLED

Afton, WY, Afton Muni, RNAV (GPS) RWY 16, Amdt 2

Afton, WY, Afton Muni, RNAV (GPS) RWY 34, Amdt 2

Afton, WY, Afton Muni, Takeoff Minimums and Textual DP, Amdt 1

The FAA published an Amendment in Docket No. 30504, Amdt No. 3176 to Part 97 of the Federal Aviation Regulations (Vol 71 FR No. 140 Page 41353; Dated Friday, July 21, 2006) under section 97.33 effective 28 September 2006, which is hereby amended as follows:

Andalusia/Opp, AL, Andalusia-Opp, RNAV (GPS) RWY 11, Amdt 1

Andalusia/Opp, AL, Andalusia-Opp, Takeoff Minimums and Textual DP, Amdt 1

[FR Doc. E6-12666 Filed 8-4-06; 8:45 am]

BILLING CODE 4910-13-P